ENVIRONMENTAL PROTECTION AGENCY

[Docket #OR-04-001; FRL-7623-3]

Oregon Maintenance of Effort Reduction

AGENCY: Environmental Protection Agency

ACTION: Notice; proposed determination with request for comments and notice of opportunity for public hearing.

SUMMARY: The Environmental Protection Agency (EPA) announces an opportunity for public hearing and comment on a proposed determination that the Oregon Department of Environmental Quality (ODEQ) should be allowed a reduced Maintenance of Effort (MOE) level for Fiscal Year (FY) 2003, consistent with MOE requirements of the Clean Air Act (CAA) and EPA financial assistance policies and procedures.

DATES: Comments and/or requests for a public hearing must be received by EPA by March 15, 2004.

ADDRESSES: Written comments on this proposed action should be sent to: Paul Koprowski, EPA, Oregon Operations Office, 811 SW Sixth Ave., Portland, OR 97204. Electronic comments should be sent either to r10.aircom@epa.gov or to http://www.regulations.gov, which is an alternative method for submitting electronic comments to EPA. To submit comments, please follow the detailed instructions described in the SUPPLEMENTARY INFORMATION section. Copies of the documents relevant to this action are available for public inspection during normal business hours at the EPA, Oregon Operations Office, 811 SW Sixth Ave., Portland, OR 97202.

FOR FURTHER INFORMATION CONTACT: Paul Koprowski, EPA Project Officer, Oregon Operations Office, 811 SW Sixth Ave., Portland, OR 97204, (503) 326-6363, or e-mail address at koprowski.paul@epa.gov.

SUPPLEMENTARY INFORMATION:

I. Background

The EPA provides financial assistance to the ODEQ, for the operation of its Air Pollution Control Program through an annual continuing environmental program grant agreement. EPA awards the grant pursuant to section 105(a) of the CAA (42 United States Code 7405) and Code of Federal Regulations (CFR) parts 30 and 35.140.

Section 105(c)(1) of the CAA, 42 U.S.C. 7405(c)(1), provides that “No agency shall receive any grant under this section during any fiscal year when its expenditures of non-Federal funds for recurrent expenditures for air pollution control programs will be less than its expenditures were for such programs during the preceding fiscal year. In order for the Administrator to award grants under this section in a timely manner each fiscal year, the Administrator shall compare an agency's prospective expenditure level to that of its second preceding year.” EPA may still award financial assistance to an agency not meeting this requirement, however, if EPA, “after notice and opportunity for public hearing, determines that a reduction in expenditures is attributable to a non-selective reduction in the expenditures in the programs of all Executive branch agencies of the applicable unit of Government” (CAA section 105(c)(2)). These statutory requirements are repeated in EPA's implementing regulations at 40 CFR 35.146.

On December 31, 2003, ODEQ submitted a request to reduce the MOE level in their FY03 Section 105 air program grant in accord with 40 CFR 35.146. ODEQ submitted supporting budget documentation that shows that during 2002 and 2003 the State of Oregon experienced several revenue shortfalls resulting in across-the-board agency budget cuts. The total reduction to the Oregon air quality MOE due to these non-selective budget cuts is $310,070. More specifically, $259,394 of the $310,070 is a prorated permanent agency budget reduction required by the implementation of Oregon HB 5100 for the period February 2003 to September 2003. HB 5100 identified across-the-board reductions if voters rejected a tax increase on January 28, 2003. The tax increase was rejected. The remaining $50,676 of the $310,070 is a prorated amount based on the Governor's administrative budget reductions due to revenue shortfall in December 2003. The Governor has authority to administratively reduce budgets without legislative action but the reductions have to be across-the-board. The documentation included with the ODEQ request clearly shows that across-the-board cuts were applied to all Executive branch agencies in Oregon.

After reviewing the information submitted with the ODEQ request, EPA concludes that ODEQ's budget reduction meets the CAA criteria as non-selective since the budgets of all executive branch agencies were cut uniformly and the ODEQ air program was not singled out in the budget reductions.

II. Action

As described above, based upon the preceding discussion and the information submitted by the ODEQ, EPA proposes to approve ODEQ's request for EPA to consider the FY 2003 reductions in nonfederal funding of ODEQ's air pollution control program as non-selective. Based on materials submitted, the EPA Region 10 Administrator believes the reductions were non-selective and therefore hereby proposes to find that this $310,070 reduction was a non-selective reduction within the meaning of Section 105(c) of the CAA. This action would reduce the matching requirement from $16,016,683 to $15,706,613 for the October 1, 2003 to September 30, 2003 period.

III. Invitation To Comment, Opportunity for Public Hearing

This notice constitutes a request for public comment and an opportunity for public hearing as required by the CAA. All written comments received by March 15, 2004, on this proposal will be considered. EPA will conduct a public hearing on this proposal only if a written request for a public hearing is received by EPA at the address above by March 15, 2004. If no written request for a hearing is received, EPA will proceed to the final determination. While notice of the final determination will not be published in the Federal Register, copies of the determination can be obtained by sending a written request to Paul Koprowski, EPA, Oregon Operations Office, 811 SW Sixth Ave., Portland, OR 97202.

IV. How Can I Get Copies of This Document and Other Related Information?

EPA's Oregon Operations Office has established an official public rulemaking file available for inspection. The official public file consists of the documents specifically referenced in this action; i.e., copies of the State request and supporting documentation and any comments received. The official public rulemaking file is available for public viewing at the Oregon Operations Office, 811 SW Sixth Ave., Portland, OR 97204. EPA requests that, if at all possible, you contact the person listed in the FOR FURTHER INFORMATION CONTACT section to schedule your inspection. EPA's official hours of business are Monday through Friday, 8:30 a.m. to 4:30 p.m., excluding Federal Holidays.

You may access this Federal Register document electronically through the Regulations.gov Web site located at http://www.regulations.gov where you can find, review, and submit comments on Federal rules that have been published in the Federal Register, the Government's legal newspaper, and are open for comment.

For public commenters, it is important to note that EPA's policy is that public comments, whether submitted electronically or on paper, will be made available for public viewing in the official public rulemaking file, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

V. How and To Whom Do I Submit Comments?

You may submit comments electronically, by mail, or through hand delivery/courier. To ensure proper receipt by EPA, identify the appropriate rulemaking identification number by including the text “Public comment on notice to reduce level of MOE in Oregon” in the subject line on the first page of your comment. Please ensure that your comments are submitted within the specified comment period. Comments received after the close of the comment period will be marked late and EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

a. E-mail. You may send comments by electronic mail (e-mail) to r10.aircom@epa.gov, please include the text “Public comment on notice to reduce level of Maintenance of Effort in Oregon.” EPA's e-mail system is not an anonymous access@ system. If you send an e-mail comment directly without going through Regulations.gov, EPA's e-mail system automatically captures your e-mail address. E-mail addresses that are automatically captured by EPA's e-mail system are included as part of the comment that is placed in the official public docket.

b. Regulations.gov. You may use Regulations.gov as an alternative method to submit electronic comments to EPA. Go directly to Regulations.gov at http://www.regulations.gov, then select Environmental Protection Agency at the top of the page and use the “go” button. The list of current EPA actions available for comment will be listed. Please follow the online instructions for submitting comments. The system is an “anonymous access” system, which means EPA will not know your identity, e-mail address, or other contact information unless you provide it in the body of your comment.

c. Disk or CD ROM. You may submit comments on a disk or CD ROM that you mail to the mailing address identified in Section 2, directly below. These electronic submissions will be accepted in WordPerfect, Word or ASCII file format. Avoid the use of special characters and any form of encryption.

2. By Mail. Send your comments to: Paul Koprowski, EPA, Oregon Operations Office, 811 SW Sixth Ave., Portland, OR 97202. Please include the text “Public comment on notice to reduce level of Maintenance of Effort in Oregon” in the subject line on the first page of your comment.

3. By Hand Delivery or Courier. Deliver your comments to: Paul Koprowski, EPA, Oregon Operations Office, 811 SW Sixth Ave., Portland, OR 97202. Such deliveries are only accepted during the Operation Office's normal hours of operation. The Operations Offices official hours of business are Monday through Friday, 8:30 a.m. to 4:30 p.m. excluding Federal holidays.

Dated: February 5, 2004.
L. John Iani,
Regional Administrator, Region 10.

[FR Doc. 04-3228 Filed 2-12-04; 8:45 am]

BILLING CODE 6560-50-P